DEPARTMENT OF COMMERCE

International Trade Administration

[A-475-818, C-475-819, A-489-805, C-489-806]

Certain Pasta From Italy and the Republic of Türkiye: Continuation of Antidumping Duty Orders and Countervailing Duty Orders

AGENCY: Enforcement and Compliance, International Trade Administration, Department of Commerce.

SUMMARY: As a result of the determinations by the U.S. Department of Commerce (Commerce) and the U.S. International Trade Commission (ITC) that the revocation of the antidumping duty (AD) orders and countervailing duty (CVD) orders on certain pasta (pasta) from Italy and the Republic of Türkiye (Türkiye) would likely lead to the continuation or recurrence of dumping and net countervailable subsidies, and material injury to an industry in the United States, Commerce is publishing a notice of continuation of these AD and CVD orders.

DATES: Applicable September 19, 2024.

FOR FURTHER INFORMATION CONTACT: Erin Kearney (AD), AD/CVD Operations, Office VI, and Blair Hood (CVD), AD/CVD Operations, Office I, Enforcement and Compliance, International Trade Administration, U.S. Department of Commerce, 1401 Constitution Avenue NW, Washington, DC 20230; telephone: (202) 482-0167 and (202) 482-8329, respectively.

SUPPLEMENTARY INFORMATION:

Background

On July 24, 1996, Commerce published in the Federal Register the AD and CVD orders on pasta from Italy and Türkiye.¹ On March 1, 2024, the ITC instituted,² and Commerce initiated,³ the fifth sunset reviews of the Orders, pursuant to section 751(c) of the Tariff Act of 1930, as amended (the Act). As a result of its reviews, Commerce determined that revocation of the Orders would likely lead to the continuation or recurrence of dumping and net countervailable subsidies and, therefore, notified the ITC of the magnitude of the margins of dumping and the net countervailable subsidy rates likely to prevail should the Orders be revoked.⁴

¹ See Notice of Antidumping Duty Order and Amended Final Determination of Sales at Less Than Fair Value: Certain Pasta from Italy, 61 FR 38547 (July 24, 1996); see also Notice of Countervailing Duty Order and Amended Final Affirmative Countervailing Duty Determination: Certain Pasta (“Pasta”) from Italy, 61 FR 38544 (July 24, 1996); Notice of Antidumping Duty Order and Amended Final Determination of Sales at Less Than Fair Value: Certain Pasta from Turkey, 61 FR 38545 (July 24, 1996); Notice of Countervailing Duty Order: Certain Pasta (“Pasta”) from Turkey, 61 FR 38546 (July 24, 1996) (collectively, the Orders).

² See Institution of Five-Year Reviews, 89 FR 15217 (March 1, 2024).

³ See Initiation of Five-Year (Sunset) Reviews, 89 FR 15139 (March 1, 2024).

⁴ See Certain Pasta from Italy and Türkiye: Final Results of Expedited Fifth Sunset Reviews of the Antidumping Duty Orders, 89 FR 56863, (July 11, 2024) and accompanying Issues and Decision Memorandum (IDM); see also Certain Pasta from Italy and the Republic of Türkiye: Final Results of the Expedited Fifth Sunset Review of the Countervailing Duty Order, 89 FR 56302 (July 9, 2024) and accompanying IDM.

On September 19, 2024, the ITC published its determinations, pursuant to sections 751(c) and 752(a) of the Act, that revocation of the Orders would likely lead to continuation or recurrence of material injury to an industry in the United States within a reasonably foreseeable time.⁵

⁵ See Certain Pasta from Italy and Turkey, 89 FR 76869 (September 19, 2024).

Scope of the Orders

The merchandise covered by the Orders is pasta. For a complete description of the scope of the Orders, see the appendix to this notice.

Continuation of the Orders

As a result of the determinations by Commerce and the ITC that revocation of the Orders would likely lead to continuation or recurrence of dumping, net countervailable subsidies, and material injury to an industry in the United States, pursuant to section 751(d)(2) of the Act, Commerce hereby orders the continuation of the Orders. U.S. Customs and Border Protection will continue to collect AD and CVD cash deposits at the rates in effect at the time of entry for all imports of subject merchandise.

The effective date of the continuation of the Orders will be September 19, 2024.⁶ Pursuant to section 751(c)(2) of the Act and 19 CFR 351.218(c)(2), Commerce intends to initiate the next five-year reviews of the Orders not later than 30 days prior to the fifth anniversary of the date of the last determination by the ITC.

⁶ Id.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

These five-year (sunset) reviews and this notice are in accordance with sections 751(c) and 751(d)(2) of the Act and published in accordance with section 777(i) of the Act, and 19 CFR 351.218(f)(4).

Dated: September 23, 2024.
Ryan Majerus,
Deputy Assistant Secretary for Policy and Negotiations, performing the non-exclusive functions and duties of the Assistant Secretary for Enforcement and Compliance.

Appendix

Scope of the Orders

Italy (A-475-818, C-475-819)

The scope of these Orders consists of certain non-egg dry pasta in packages of five pounds four ounces or less, whether or not enriched or fortified or containing milk or other optional ingredients such as chopped vegetables, vegetable purees, milk, gluten, diastasis, vitamins, coloring and flavorings, and up to two percent egg white. The pasta covered by the scope of the Orders is typically sold in the retail market, in fiberboard or cardboard cartons, or polyethylene or polypropylene bags of varying dimensions.

Excluded from the scope of these Orders are refrigerated, frozen, or canned pastas, as well as all forms of egg pasta, with the exception of non-egg dry pasta containing up to two percent egg white. Multicolored pasta, imported in kitchen display bottles of decorative glass that are sealed with cork or paraffin and bound with raffia, is excluded from the scope of the Orders. Pursuant to Commerce's August 14, 2009, changed circumstances review, effective July 1, 2008, gluten free pasta is also excluded from the scope of the Orders. Effective January 1, 2012, ravioli and tortellini filled with cheese and/or vegetables are also excluded from the scope of the Orders.

Also excluded are imports of organic pasta from Italy that are certified by an EU authorized body in accordance with the United States Department of Agriculture's National Organic Program for organic products. The organic pasta certification must be retained by exporters and importers and made available to U.S. Customs and Border Protection or the Department of Commerce upon request.

The merchandise subject to these Orders is currently classifiable under subheadings 1901.90.9095 and 1902.19.20 of the Harmonized Tariff Schedule of the United States (HTSUS). Although the HTSUS subheadings are provided for convenience and Customs purposes, the written description of the merchandise subject to the to the Orders is dispositive.

Türkiye (A-489-805, C-489-806)

The scope of these Orders consists of certain non-egg dry pasta in packages of five pounds four ounces or less, whether or not enriched or fortified or containing milk or other optional ingredients such as chopped vegetables, vegetable purees, milk, gluten, diastases, vitamins, coloring and flavorings, and up to two percent egg white. The pasta covered by this scope is typically sold in the retail market, in fiberboard or cardboard cartons or polyethylene or polypropylene bags, of varying dimensions.

Excluded from the scope of these Orders are refrigerated, frozen, or canned pastas, as well as all forms of egg pasta, with the exception of non-egg dry pasta containing up to two percent egg white.

The merchandise subject to these Orders is currently classified under subheading 1902.19.20 of the HTSUS. Although the HTSUS subheading is provided for convenience and customs purposes, the written description of the merchandise subject to the Orders is dispositive.

[FR Doc. 2024-22179 Filed 9-26-24; 8:45 am]

BILLING CODE 3510-DS-P